COURT SERVICES AND OFFENDER SUPERVISION AGENCY FOR THE DISTRICT OF COLUMBIA

28 CFR Part 812

[CSOSA-0006-I]

RIN 3225-AA04

Collection and Use of DNA Information

AGENCY: Court Services and Offender Supervision Agency for the District of Columbia.

ACTION: Interim Rule.

SUMMARY: The Court Services and Offender Supervision Agency for the District of Columbia (“CSOSA”) is adopting interim regulations to implement section 4 of the DNA Analysis Backlog Elimination Act of 2000, in conjunction with District of Columbia laws enacted pursuant to that Act which specify qualifying District of Columbia offenses for purposes of DNA sample collection. The interim regulations set forth the responsibilities of CSOSA for collecting DNA samples from individuals under its supervision who have been convicted of specific offenses identified by District of Columbia statute. The regulations specify that DNA samples are to be collected, handled, preserved, and submitted to the Federal Bureau of Investigation (“FBI”) in accordance with FBI guidelines for inclusion in the Combined DNA Index System (“CODIS”), a national database of DNA profiles from convicted offenders, unsolved crime scenes, and missing persons. The regulations also specify that CSOSA will cooperate with the Federal Bureau of Prisons to ensure that unnecessary samples will not be collected; establish a standard for what constitutes an individual's refusal to cooperate in the collection of a DNA sample; and define what steps CSOSA deems to be reasonably necessary to take when an individual refuses to cooperate. The regulations identify in an appendix the offenses which qualify for DNA collection, as they appear in the District of Columbia public laws, in the District of Columbia Code (1981 ed.), and in the District of Columbia Official Code (2001 ed.).

DATES: Effective August 21, 2002; comments must be submitted by October 21, 2002.

ADDRESSES: Office of the General Counsel, CSOSA, Room 1253, 633 Indiana Avenue, NW., Washington, DC 20004.

FOR FURTHER INFORMATION CONTACT: Roy Nanovic, Records Manager (telephone: (202) 220-5359; e-mail: roy.nanovic@csosa.gov).

SUPPLEMENTARY INFORMATION: The Court Services and Offender Supervision Agency for the District of Columbia (“CSOSA”) is adopting interim regulations on the collection and use of DNA information (28 CFR part 812).

The DNA Analysis Backlog Elimination Act of 2000 (Pub. L. 106-546, 114 Stat. 2726) authorizes the collection of DNA samples from persons convicted of “qualifying District of Columbia offenses” who are in the custody of the Federal Bureau of Prisons (“BOP”) or who are on supervised release, parole, or probation and under CSOSA's supervision. Qualifying District of Columbia offenses were identified by the Council of the District of Columbia in the DNA Sample Collection Act of 2001, District of Columbia Act 14-076, the DNA Sample Collection Emergency Act of 2001, District of Columbia Act 14-077, and the DNA Sample Collection Congressional Review Emergency Act of 2001, District of Columbia Act 14-130.

The DNA information becomes part of the Combined DNA Index System (“CODIS”), a national database of DNA profiles from convicted offenders, unsolved crime scenes, and missing persons. CODIS allows State and local forensic laboratories to exchange and compare DNA profiles electronically, thereby linking serial violent crimes, especially sexual assaults, to each other, and to identify suspects by matching DNA from crime scenes to convicted offenders.

CSOSA is responsible for the supervision of adults on probation, parole, or supervised release for District of Columbia Code offenses in the District of Columbia. Under the provisions of the DNA Analysis Backlog Elimination Act of 2000, CSOSA must collect a DNA sample from each individual under its supervision who is, or has been, convicted of a qualifying District of Columbia offense. CSOSA has the discretion not to collect a sample from the individual if CODIS already has a DNA analysis for the individual. CSOSA also has the authority to use such means as are reasonably necessary to collect a sample from an individual who refuses to cooperate in the collection of the sample.

CSOSA's regulations list the qualifying District of Columbia offenses in an appendix to the part. The offenses are listed in three tables. Table 1 presents the offenses as they were identified in the “DNA Sample Collection Act of 2001”. Table 2 presents the offenses in numerical order under the D.C. Code, (1981 Edition). Table 3 presents the offenses in numerical order under the D.C. Official Code (2001 Edition). These tables are presented for informational purposes only. Any future revision to the District of Columbia Code sections designating the qualifying offenses will be effective notwithstanding the timing of a conforming revision of the appendix by CSOSA.

Section 812.2 of CSOSA's interim regulations establishes procedures for coordinating the collection of samples with BOP. BOP has the authority to collect DNA samples from District of Columbia Code offenders in its custody. CSOSA will exchange information concerning the collection of the DNA sample from District of Columbia Code offenders in their custody or under their supervision in order to ensure that DNA samples will not be taken from District of Columbia Code offenders unnecessarily.

Section 812.4 pertains to collection procedures. Paragraph (a) specifies that the DNA sample (currently in the form of a blood sample) will be collected in accordance with FBI guidelines. Paragraph (b) establishes what CSOSA deems to be a refusal to cooperate by an individual who is subject to collection. Paragraph (c) describes what reasonably necessary measures CSOSA will take in response to such refusal, including administrative sanctions, referral for criminal prosecution, and a request for revocation of probation, parole, or supervised release which could result in commitment to the custody of the Federal Bureau of Prisons, thereby facilitating collection procedures authorized by Department of Justice regulations (28 CFR part 28).

Matters of Regulatory Procedure

Administrative Procedure Act

The implementation of these regulations as interim regulations, with provision for post-promulgation public comments, is based on the “good cause” exceptions found at 5 U.S.C. 553(b)(3)(B) and (d)(3). The rule implements section 4 of Pub. L. 106-546 (42 U.S.C. 14135b), which requires the Director of CSOSA to “collect a DNA sample from each individual under the supervision of the Agency who is on supervised release, parole, or probation who is, or has been, convicted of a qualifying District of Columbia offense” and requires collection of DNA samples to commence not later than 180 days after the effective date of the Act. Given that section 4(d) authorizes the government of the District of Columbia to “determine those offenses under the District of Columbia Code that shall be treated * * * as qualifying District of Columbia offenses,” Congress must have been aware that it would not be feasible within a 180-day time period to enact the required District of Columbia legislation, publish a proposed regulation for notice and comment, as well as a subsequent final rule, and for the period of the final rule's delayed effective date to have run. Public Law 106-546, in conjunction with the District of Columbia legislation, is explicit and comprehensive concerning the types of offenses that will be treated as qualifying District of Columbia offenses and concerning the responsibilities of CSOSA in collecting DNA samples. In light of the short statutory time frame for the implementation of this law and the fact that the formulation of implementing regulations involves the exercise of relatively little discretion, it is impracticable and unnecessary to adopt this rule with the prior notice and comment period normally required under 5 U.S.C. 553(b) or with the delayed effective date normally required under 5 U.S.C. 553(d).

Moreover, the collection, analysis, and indexing of DNA samples as required by Public Law 106-546 furthers important public safety interests by facilitating the solution and prevention of crime, see H.R. Rep. No. 900, 106th Cong., 2d Sess. 8-11 (2000) (House Judiciary Committee Report). Delay in the full implementation of the law—including the absence of a specification of what constitutes a refusal to cooperate in DNA sample collection and what measures are to be taken in response to such a refusal, as set forth in these regulations—would thwart or delay the realization of these public safety benefits. Dangerous offenders who might be successfully identified through DNA matching may reach the end of supervision before DNA sample collection can be carried out, thereby remaining at large to engage in further crimes against the public. Furthermore, delay in collecting, analyzing, and indexing DNA samples, and hence in the identification of offenders, may foreclose prosecution due to the running of statutes of limitations. Failure to identify, or delay in identifying, offenders as the perpetrators of crimes through DNA matching also increases the risk that innocent persons may be wrongfully suspected, accused, or convicted of such crimes. Therefore, it would be contrary to the public interest to adopt these regulations with the prior notice and comment period normally required under 5 U.S.C. 553(b) or with the delayed effective date normally required under 5 U.S.C. 553(d).

Any interested person who wishes to submit comments on the interim rule, however, may do so by writing or e-mailing the agency at the addresses given above in the ADDRESSES and FOR FURTHER INFORMATION CONTACT captions.

Executive Order 12866

This interim rule has been determined to be significant under Executive Order 12866 and has been reviewed by the Office of Management and Budget (OMB).

Executive Order 13132

This rule will not have substantial direct effects on the States, on the relationship between the national government and the States, or on the distribution of power and responsibilities among the various levels of government. Therefore, in accordance with Executive Order 13132, the Director of CSOSA has determined that this rule does not have sufficient federalism implications to warrant the preparation of a Federalism Assessment.

Regulatory Flexibility Act

The Director of CSOSA, in accordance with the Regulatory Flexibility Act (5 U.S.C. 605(b)), has reviewed this rule and by approving it certifies that this rule will not have a significant economic impact upon a substantial number of small entities. This rule pertains to agency management, and its economic impact is limited to the agency's appropriated funds.

Unfunded Mandates Reform Act of 1995

This rule will not result in the expenditure by State, local and tribal governments, in the aggregate, or by the private sector, of $100,000,000 or more in any one year, and it will not significantly or uniquely affect small governments. Therefore, the Director of CSOSA has determined that no actions are necessary under the provisions of the Unfunded Mandates Reform Act of 1995.

Small Business Regulatory Enforcement Fairness Act of 1996

This rule is not a major rule as defined by section 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

Plain Language Instructions

We want to make CSOSA's documents easy to read and understand. If you have suggestions on how to improve the clarity of these regulations, write, e-mail, or call the Records Manager (Roy Nanovic) at the address or telephone number given above in the ADDRESSES and FOR FURTHER INFORMATION CONTACT captions.

List of Subjects in 28 CFR Part 812

Probation and Parole.

Paul A. Quander, Jr.,
Director.

Accordingly, we amend chapter VIII, Title 28 of the Code of Federal regulations by adding new part 812 as set forth below.

PART 812—COLLECTION AND USE OF DNA INFORMATION

Sec.
812.1 Purpose.
812.2 Individuals subject to DNA collection.
812.3 Coordination with the Federal Bureau of Prisons.
812.4 Collection procedures.
Appendix A to Part 812—Qualifying District of Columbia Code Offenses

Authority: 5 U.S.C. 301; Pub. L. 106-546 (114 Stat. 2726).

§ 812.1 Purpose.

The Court Services and Offender Supervision Agency for the District of Columbia (“CSOSA”) cooperates with other federal agencies to ensure that DNA samples from offenders are appropriately furnished to the Federal Bureau of Investigation (“FBI”) for DNA analysis. The results of the DNA analyses are to be included in the Combined DNA Index System (“CODIS”).

§ 812.2 Individuals subject to DNA collection.

CSOSA is responsible for collecting a DNA sample from each individual under its supervision who is, or has been, convicted of a qualifying District of Columbia Code offense. Qualifying District of Columbia Code offenses were designated by the Council of the District of Columbia in the “DNA Sample Collection Act of 2001.” CSOSA provides a listing of these offenses in the Appendix to this part. The list is presented for informational purposes only. Any future revision to the District of Columbia Code sections designating the qualifying offenses will be effective notwithstanding the timing of a conforming revision of the Appendix by CSOSA. CSOSA may choose not to collect a sample from an individual if it determines that CODIS already contains a DNA analysis for the individual.

§ 812.3 Coordination with the Federal Bureau of Prisons.

(a) CSOSA will coordinate with the Federal Bureau of Prisons in order to obtain documentation regarding the collection of a DNA sample when the Federal Bureau of Prisons releases an inmate to CSOSA's supervision or as requested by CSOSA.

(b) CSOSA shall provide the Federal Bureau of Prisons with documentation regarding the collection of a DNA sample from a District of Columbia Code offender when CSOSA returns the District of Columbia Code offender to the custody of the Federal Bureau of Prisons or as requested by the Federal Bureau of Prisons.

§ 812.4 Collection procedures.

(a) DNA samples will be collected, handled, preserved, and submitted to the FBI in accordance with FBI guidelines.

(b) CSOSA has the authority to use such means as are reasonably necessary to collect a sample from an individual who refuses to cooperate in the collection of the sample. Unless CSOSA determines that there are mitigating circumstances, CSOSA will consider that an individual is refusing to cooperate if:

(1) The individual is being ordered or transferred to CSOSA's supervision, but fails to report to CSOSA for collection of the sample within 15 business days of being sentenced to probation or being discharged from a correctional institution; or

(2) The individual is already under CSOSA supervision and has been notified by his or her Community Supervision Officer of the time to report for collection of the sample, but fails to report for collection of the sample; or

(3) The individual has reported to CSOSA for collection of the sample, but fails to provided the sample after being given a minimum of one hour to do so; or

(4) The individual specifically states that he or she will not cooperate.

(c) When an individual has refused to cooperate in the collection of the sample, CSOSA deems the following to be reasonably necessary means for obtaining the sample:

(1) Impose administrative sanctions;

(2) Request a revocation hearing by the releasing authority; and/or

(3) Refer the individual who refuses to cooperate for criminal prosecution for a class A misdemeanor pursuant to section 4(a)(5) of the DNA Analysis Backlog Elimination Act of 2000 (42 U.S.C. 14135b(a)(5)).

APPENDIX A TO PART 812—QUALIFYING DISTRICT OF COLUMBIA CODE OFFENSES

As enacted by the Council of the District of Columbia, the DNA Sample Collection Act of 2001 identifies the criminal offenses listed in Table 1 of this appendix as “qualifying District of Columbia offenses” for the purposes of the DNA Analysis Backlog Elimination Act of 2000 (Pub. L. 106-546, 114 Stat. 2726). Table 2 of this Appendix lists these same offenses in numerical order under the D.C. Code, 1981 Edition. Table 3 of this Appendix lists these same offenses in numerical order under the D.C. Official Code, 2001 Edition. The tables follow:

Table 1. Offense Listing

(1) Section 820 of An Act To establish a code of law for the District of Columbia (arson);

(2) Section 821 of An Act To establish a code of law for the District of Columbia (burning of one's own property with intent to defraud or injure another);

(3) Section 848 of An Act To establish a code of law for the District of Columbia (malicious burning, destruction, or injury of another's property);

(4) Section 803 of An Act To establish a code of law for the District of Columbia (assault with intent to kill, rob, or poison, or to commit first degree sexual abuse, second degree sexual abuse or child sexual abuse);

(5) Section 804 of An Act To establish a code of law for the District of Columbia, (assault with intent to commit mayhem or with dangerous weapon);

(6) Section 806a of An Act To establish a code of law for the District of Columbia (aggravated assault);

(7) Section 432(b) of the Revised Statutes, relating to the District of Columbia (assault on member of police force, campus or university special police, or fire department using a deadly or dangerous weapon);

(8) Section 807 of An Act To establish a code of law for the District of Columbia (mayhem or maliciously disfiguring);

(9) Section 3 of An act for the protection of children in the District of Columbia and for other purposes (cruelty to children);

(10) Section 9 of An Act for the preservation of the public peace and the protection of property within the District of Columbia (lewd, indecent, or obscene acts (knowingly in the presence of a child under the age of 16 years));

(11) Section 823 of An Act To establish a code of law for the District of Columbia (burglary);

(12) Section 875 of An Act To establish a code of law for the District of Columbia (incest);

(13) Section 872 of An Act To establish a code of law for the District of Columbia (certain obscene activities involving minors);

(14) Section 3 of the District of Columbia Protection of Minors Act of 1982 (sexual performances using minors);

(15) Section 812 of An Act To establish a code of law for the District of Columbia (kidnapping);

(16) Section 798 of An Act To establish a code of law for the District of Columbia (murder in the first degree);

(17) Section 799 of An Act To establish a code of law for the District of Columbia (murder in the first degree—obstructing railroad);

(18) Section 800 of An Act To establish a code of law for the District of Columbia (murder in the second degree);

(19) Section 802 of An Act To establish a code of law for the District of Columbia (voluntary manslaughter only);

(20) Section 802a of An Act To establish a code of law for the District of Columbia (murder of a law enforcement officer);

(21) Section 813 of An Act To establish a code of law for the District of Columbia (abducting, enticing, or harboring a child for prostitution);

(22) Section 1 of An Act In relation to pandering, to define and prohibit the same and to provide for the punishment thereof (pandering; inducing or compelling an individual to engage in prostitution);

(23) Section 2 of An Act In relation to pandering, to define and prohibit the same and to provide for the punishment thereof (compelling an individual to live life of prostitution against his or her will);

(24) Section 4 of An Act In relation to pandering, to define and prohibit the same and to provide for the punishment thereof (causing spouse to live in prostitution);

(25) Section 5 of An Act In relation to pandering, to define and prohibit the same and to provide for the punishment thereof (detaining an individual in disorderly house for debt there contracted);

(26) Forcible rape, carnal knowledge or statutory rape as these offenses were proscribed until May 23, 1995 by section 808 of An Act To establish a code of law for the District of Columbia;

(27) Section 810 of An Act To establish a code of law for the District of Columbia (robbery);

(28) Section 811 of An Act To establish a code of law for the District of Columbia (attempted robbery);

(29) Section 811a of An Act To establish a code of law for the District of Columbia (carjacking);

(30) lndecent acts with children as this offense was proscribed until May 23, 1995 by section 103(a) of An Act To provide for the treatment of sexual psychopaths in the District of Columbia, and for other purposes;

(31) Enticing a child as this offense was proscribed until May 23, 1995 by section 103(b) of An Act To provide for the treatment of sexual psychopaths in the District of Columbia, and for other purposes;

(32) Sodomy as this offense was proscribed until May 23, 1995 by section 104(a) of An Act To provide for the treatment of sexual psychopaths in the District of Columbia, and for other purposes where the offense was forcible or committed against a minor;

(33) Section 201 of the Anti-Sexual Abuse Act of 1994 (first degree sexual abuse);

(34) Section 202 of the Anti-Sexual Abuse Act of 1994 (second degree sexual abuse);

(35) Section 203 of the Anti-Sexual Abuse Act of 1994 (third degree sexual abuse);

(36) Section 204 of the Anti-Sexual Abuse Act of 1994 (fourth degree sexual abuse);

(37) Section 205 of the Anti-Sexual Abuse Act of 1994 (misdemeanor sexual abuse);

(38) Section 207 of the Anti-Sexual Abuse Act of 1994 (first degree child sexual abuse);

(39) Section 208 of the Anti-Sexual Abuse Act of 1994 (second degree child sexual abuse);

(40) Section 209 of the Anti-Sexual Abuse Act of 1994 (enticing a child);

(41) Section 212 of the Anti-Sexual Abuse Act of 1994 (first degree sexual abuse of a ward);

(42) Section 213 of the Anti-Sexual Abuse Act of 1994 (second degree sexual abuse of a ward);

(43) Section 214 of the Anti-Sexual Abuse Act of 1994 (first degree sexual abuse of a patient or client);

(44) Section 215 of the Anti-Sexual Abuse Act of 1994 (second degree sexual abuse of a patient or client);

(45) Section 217 of the Anti-Sexual Abuse Act of 1994 (attempts to commit sexual offenses); and

(46) Attempt or conspiracy to commit any of the offenses listed in items (1) through (45) of this table.

Table 2. Offense Listing (D.C. Official Code, 1981 Edition)

(1) D.C. Code section 22-401—arson;

(2) D.C. Code section 22-402—burning of one's own property with intent to defraud or injure another;

(3) D.C. Code section 22-403—malicious burning, destruction or injury of another's property;

(4) D.C. Code section 22-501—assault with intent to kill, rob, or poison, or to commit first degree sexual abuse, second degree sexual abuse or child sexual abuse;

(5) D.C. Code section 22-502—assault with intent to commit mayhem or with dangerous weapon;

(6) D.C. Code section 22-504.1—aggravated assault;

(7) D.C. Code section 22-505(b)—assault on member of police force, campus or university special police, or fire department using a deadly or dangerous weapon;

(8) D.C. Code section 22-506—mayhem or maliciously disfiguring;

(9) D.C. Code section 22-901—cruelty to children;

(10) D.C. Code section 22-1112(b)—lewd, indecent or obscene acts (knowingly in the presence of a child under the age of 16 years);

(11) D.C. Code section 22-1801—burglary;

(12) D.C. Code section 22-1901—incest;

(13) D.C. Code section 22-2001—certain obscene activities involving a minor;

(14) D.C. Code section 22-2012—sexual performances using minors;

(15) D.C. Code section 22-2101—kidnapping;

(16) D.C. Code section 22-2401—murder in the first degree;

(17) D.C. Code section 22-2402—murder in the first degree (obstructing railroad);

(18) D.C. Code section 22-2403—murder in the second degree;

(19) D.C. Code section 22-2405—voluntary manslaughter only;

(20) D.C. Code section 22-2406—murder of a law enforcement officer;

(21) D.C. Code section 22-2704—abducting, enticing, or harboring a child for prostitution;

(22) D.C. Code section 22-2705—pandering; inducing or compelling an individual to engage in prostitution;

(23) D.C. Code section 22-2706—compelling an individual to live life of prostitution against his or her will;

(24) D.C. Code section 22-2708—causing spouse to live in prostitution;

(25) D.C. Code section 22-2709—detaining an individual in disorderly house for debt there contracted;

(26) D.C. Code section 22-2801 [repealed May 23, 1995]—forcible rape, carnal knowledge or statutory rape;

(27) D.C. Code section 22-2901—robbery;

(28) D.C. Code section 22-2902—attempted robbery;

(29) D.C. Code section 22-2903—carjacking;

(30) D.C. Code section 22-3501(a) [repealed May 23, 1995]—indecent acts with children;

(31) D.C. Code section 22-3501(b) [repealed May 23, 1995]—enticing a child;

(32) D.C. Code section 22-3502(a) [repealed May 23, 1995]—sodomy where the offense was forcible or committed against a minor;

(33) D.C. Code section 22-4102—first degree sexual abuse;

(34) D.C. Code section 22-4103—second degree sexual abuse;

(35) D.C. Code section 22-4104—third degree sexual abuse;

(36) D.C. Code section 22-4105—fourth degree sexual abuse;

(37) D.C. Code section 22-4106—misdemeanor sexual abuse;

(38) D.C. Code section 22-4108—first degree child sexual abuse;

(39) D.C. Code section 22-4109—second degree child sexual abuse;

(40) D.C. Code section 22-4110—enticing a child;

(41) D.C. Code section 22-4113—first degree sexual abuse of a ward;

(42) D.C. Code section 22-4114—second degree sexual abuse of a ward;

(43) D.C. Code section 22-4115—first degree sexual abuse of a patient or client;

(44) D.C. Code section 22-4116—second degree sexual abuse of a patient or client;

(45) D.C. Code section 22-4118—attempts to commit sexual offenses;

(46) Attempt or conspiracy to commit any of the offenses listed in items (1) through (45) of this table.

Table 3. Offense Listing (D.C. Official Code, 2001 Edition)

(1) D.C. Code section 22-301—arson;

(2) D.C. Code section 22-302—burning of one's own property with intent to defraud or injure another;

(3) D.C. Code section 22-303—malicious burning, destruction, or injury of another's property;

(4) D.C. Code section 22-401—assault with intent to kill, rob, or poison, or to commit first degree sexual abuse, second degree sexual abuse or child sexual abuse;

(5) D.C. Code section 22-402—assault with intent to commit mayhem or with dangerous weapon;

(6) D.C. Code section 22-404.01—aggravated assault;

(7) D.C. Code section 22-405(b)—assault on member of police force, campus or university special police, or fire department using a deadly or dangerous weapon;

(8) D.C. Code section 22-406—mayhem or maliciously disfiguring;

(9) D.C. Code section 22-801—burglary;

(10) D.C. Code section 22-1101—cruelty to children;

(11) D.C. Code section 22-1312(b)—lewd, indecent, or obscene acts (knowingly in the presence of a child under the age of 16 years);

(12) D.C. Code section 22-1901—incest;

(13) D.C. Code section 22-2001—kidnapping;

(14) D.C. Code section 22-2101—murder in the first degree;

(15) D.C. Code section 22-2102—murder in the first degree—obstructing railroad;

(16) D.C. Code section 22-2103—murder in the second degree;

(17) D.C. Code section 22-2105—voluntary manslaughter only;

(18) D.C. Code section 22-2106—murder of a law enforcement officer;

(19) D.C. Code section 22-2201—certain obscene activities involving minors;

(20) D.C. Code section 22-2704—abducting, enticing, or harboring a child for prostitution;

(21) D.C. Code section 22-2705—pandering; inducing or compelling an individual to engage in prostitution;

(22) D.C. Code section 22-2706—compelling an individual to live life of prostitution against his or her will;

(23) D.C. Code section 22-2708—causing spouse to live in prostitution;

(24) D.C. Code section 22-2709—detaining an individual in disorderly house for debt there contracted;

(25) D.C. Code section 22-2801—robbery;

(26) D.C. Code section 22-2802—attempted robbery;

(27) D.C. Code section 22-2803—carjacking;

(28) D.C. Code section 22-3002—first degree sexual abuse;

(29) D.C. Code section 22-3003—second degree sexual abuse;

(30) D.C. Code section 22-3004—third degree sexual abuse;

(31) D.C. Code section 22-3005—fourth degree sexual abuse;

(32) D.C. Code section 22-3006—misdemeanor sexual abuse;

(33) D.C. Code section 22-3008—first degree child sexual abuse;

(34) D.C. Code section 22-3009—second degree child sexual abuse;

(35) D.C. Code section 22-3010—enticing a child;

(36) D.C. Code section 22-3013—first degree sexual abuse of a ward;

(37) D.C. Code section 22-3014—second degree sexual abuse of a ward;

(38) D.C. Code section 22-3015—first degree sexual abuse of a patient or client;

(39) D.C. Code section 22-3016—second degree sexual abuse of a patient or client;

(40) D.C. Code section 22-3018—attempts to commit sexual offenses;

(41) D.C. Code section 22-3102—sexual performances using minors;

(42) D.C. Code section 22-3801(a) [repealed May 23, 1995]—indecent acts with children;

(43) D.C. Code section 22-3801(b) [repealed May 23, 1995]—enticing a child;

(44) D.C. Code section 22-3802(a) [repealed May 23, 1995]—sodomy where the offense was forcible or committed against a minor;

(45) D.C. Code section 22-4801 [repealed May 23, 1995]—forcible rape, carnal knowledge or statutory rape;

(46) D.C. Code section 22-1803 or section 22-1805a—attempt or conspiracy to commit any of the offenses listed in items (1) through (45) of this table.

[FR Doc. 02-20606 Filed 8-20-02; 8:45 am]

BILLING CODE 3129-01-P